DEPARTMENT OF ENERGY

Federal Energy Regulatory Commission

[Docket No. CP20-10-000]

Rover Pipeline LLC; Notice of Schedule for Environmental Review of the Wick Meter and Regulator Station Project

On November 1, 2019, Rover Pipeline LLC (Rover) filed an application in Docket No. CP20-10-000 requesting a Certificate of Public Convenience and Necessity pursuant to Section 7(c) of the Natural Gas Act to construct, own, and operate a new meter station. The Wick Meter and Regulator Station Project (Project) would allow for the delivery of natural gas supplies from gathering facilities, under development by Eureka Midstream, LLC, for transportation on the Rover pipeline system, and it would be located along Rover's Sherwood Lateral Pipeline in Tyler County, West Virginia.

On November 19, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: March 13, 2020.

90-day Federal Authorization Decision Deadline: June 11, 2020.

If a schedule change becomes necessary, additional notice will be provided so that the relevant agencies are kept informed of the Project's progress.

Project Description

The Wick Meter and Regulator Station Project would consist of an ultrasonic meter skid and other ancillary facilities in Tyler County, West Virginia. The ancillary facilities would include piping and valves, electronic flow measurement devices, flow conditioners, instrumentation, telemetry, gas analysis devices, gas quality monitoring devices, flow control valves, condensate storage tank, and other related equipment. Rover would use about 2.1 acres of land to construct the station, of which 0.9 acre would be fenced and maintained for operation of the station.

Background

On January 21, 2020, the Commission issued a Notice of Intent to Prepare an Environmental Assessment for the Proposed Wick Meter and Regulator Station Project and Request for Comments on Environmental Issues (NOI). The NOI was sent to affected landowners; federal, state, and local government agencies; elected officials; environmental and public interest groups; Native American tribes; other interested parties. To date, no comments have been received in response to the NOI. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-10), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 24, 2020.
Kimberly D. Bose,
Secretary.

[FR Doc. 2020-01689 Filed 1-29-20; 8:45 am]

BILLING CODE 6717-01-P